DEPARTMENT OF JUSTICE

Immigration and Naturalization Service

[AG Order No. 2636-2002]

Registration of Certain Nonimmigrant Aliens from Designated Countries

AGENCY: Immigration and Naturalization Service, Justice.

ACTION: Notice.

SUMMARY: This Notice requires certain nonimmigrant aliens to appear before, register with, and provide requested information to the Immigration and Naturalization Service on or before February 21, 2003. It applies to certain nonimmigrant aliens from one of the countries designated in this Notice who were last admitted to the United States on or before September 30, 2002, and who will remain in the United States after February 21, 2003. The specific requirements are set forth in the Notice. This is the third such Notice that the Attorney General has published. This Notice is applicable to certain nationals and citizens of Armenia, Pakistan, and Saudi Arabia who entered the United States on or before September 30, 2002, and who will remain in the United States after February 21, 2003. Aliens described in this Notice are required to register and provide additional information to the Immigration and Naturalization Service between January 13, 2003, and February 21, 2003, inclusive.

EFFECTIVE DATES: This Notice is effective on January 13, 2003. Aliens described in this Notice are required to register and provide additional information to the Immigration and Naturalization Service on or before February 21, 2003.

FOR FURTHER INFORMATION CONTACT: Dan Brown, Office of the General Counsel, Immigration and Naturalization Service, 425 I Street, NW., Room 6100, Washington, DC 20536, telephone (202) 514-2895.

SUPPLEMENTARY INFORMATION: Section 265(b) of the Immigration and Nationality Act (“Act”), as amended, 8 U.S.C. 1305(b), provides that

[t]he Attorney General may in his discretion, upon ten days notice, require the natives of any one or more foreign states, or any class or group thereof, who are within the United States and who are required to be registered under this subchapter, to notify the Attorney General of their current addresses and furnish such additional information as the Attorney General may require.

Additionally, section 263(a) of the Act, 8 U.S.C. 1303(a), provides that the Attorney General may “prescribe special regulations and forms for the registration and fingerprinting of * * * aliens of any other class not lawfully admitted to the United States for permanent residence.” The Attorney General has previously exercised his authority under these and other provisions of the Act to establish special registration procedures under 8 CFR 264.1(f). 67 FR 52584 (Aug. 12, 2002). These requirements are known as the National Security Entry—Exit Registration System (“NSEERS”). In accordance with the authority set forth in 8 CFR 264.1(f)(4), the Attorney General has determined that certain nonimmigrant aliens specified in this Notice shall be registered and required to provide specific information. The Attorney General has the sole discretion to make this determination. Under this Notice certain nonimmigrant nationals or citizens of Armenia, Pakistan, and Saudi Arabia are required to appear at an Immigration and Naturalization Service (“Service”) office to register under NSEERS and provide additional information. This is the third Notice that the Attorney General has published. See 67 FR 67766 (Nov. 6, 2002); 67 FR 70526 (Nov. 22, 2002). Previous Notices have applied to certain nonimmigrant nationals or citizens of Afghanistan, Algeria, Bahrain, Eritrea, Iran, Iraq, Lebanon, Libya, Morocco, North Korea, Oman, Qatar, Somalia, Sudan, Syria, Tunisia, United Arab Emirates, and Yemen.

In light of recent events, and based on intelligence information available to the Attorney General, the Attorney General has determined that the aliens described in paragraph (a) of this Notice must appear before the Service and provide certain information. This Notice applies only to certain nonimmigrant aliens from one of the countries designated in this Notice who were last admitted to the United States on or before September 30, 2002, and who will remain after February 21, 2003. Based on intelligence information available to the Attorney General, the Attorney General has determined that registering all nonimmigrant aliens from the covered countries would not enhance national security. Moreover, the Attorney General has determined that it would not be administratively feasible at the present time to register all of the nonimmigrants from the specific countries covered by this Notice, and that the delay occasioned by registering all nonimmigrants from the countries covered by this Notice would jeopardize the national security. Accordingly, the Attorney General has determined that only males aged 16 years or older need to be registered at this time. Furthermore, the Attorney General has determined that an alien who has an application for asylum pending on the date of publication of this Notice has already provided sufficient information in the application for asylum, along with fingerprints, to warrant exclusion from this Notice.

Although section 265(b) of the Act, 8 U.S.C. 1305(b), provides a minimum period of 10 days notice for covered aliens to provide their current address and other required information, this Notice allows an alien described by the Notice a period of more than 30 days to register. The Attorney General has determined that such additional time to register is in the best interests of the United States and has extended this time to register solely as a matter of discretion.

Finally, until further notice, once enrolled within NSEERS by registration under this Notice, an alien described in paragraph (a) of this Notice is required to register annually with the Service. All aliens described in paragraph (a) shall comply with all other provisions of 8 CFR 264.1(f)(5) through (f)(9).

A willful failure to comply with the requirements of this Notice constitutes a failure to maintain nonimmigrant status under section 237(a)(1)(C)(i) of the Act, 8 U.S.C. 1227(a)(1)(C)(i). See 8 CFR 214.1(f). Pursuant to section 237(a)(3)(A) of the Act, 8 U.S.C. 1227(a)(3)(A), an alien who fails to comply with the provisions of this Notice is deportable, unless the alien establishes to the satisfaction of the Attorney General that such failure was reasonably excusable or was not willful. Finally, if an alien subject to this Notice fails, without good cause, to comply with the requirement in 8 CFR 264.1(f)(8) that the alien must report to an inspecting officer of the Service when departing the United States, the alien shall thereafter be presumed to be inadmissible under, but not limited to, section 212(a)(3)(A)(ii) of the Act, 8 U.S.C. 1182(a)(3)(A)(ii). See 8 CFR 264.1(f)(8).

Notice of Requirements for Registration of Certain Nonimmigrant Aliens From Designated Countries

Pursuant to sections 261 through 266 of the Immigration and Nationality Act (“Act”), as amended, 8 U.S.C. 1302 through 1306, and particularly sections 263(a) and 265(b) of the Act, 8 U.S.C. 1303(a) and 8 U.S.C. 1305(b), and 8 CFR 264.1(f), I hereby order as follows:

(a) Scope. Except as provided in paragraph (g), an alien is required to register pursuant to this Notice if the alien:

(1) Is a male who was born on or before January 13, 1987;

(2) Is a national or citizen of Armenia, Pakistan, or Saudi Arabia, who was inspected by the Immigration and Naturalization Service and was last admitted to the United States as a nonimmigrant on or before September 30, 2002; and

(3) Will remain in the United States after February 21, 2003.

(b) Dual citizens. This Notice is applicable to any alien who is a national or citizen of a designated country, notwithstanding any dual nationality or citizenship.

(c) Requirement to appear before an immigration officer. All aliens described in paragraph (a) shall, between January 13, 2003, and February 21, 2003, inclusive, appear before an immigration officer at any of the locations listed in the appendix to this Notice.

(d) Information to be provided. All aliens described in paragraph (a) shall:

(1) Answer questions under oath before an immigration officer, which answers shall be recorded by the immigration officer;

(2) Present to such immigration officer:

(i) The alien's travel documents, including passport and the Form I-94 issued upon admission, and any other forms of government-issued identification;

(ii) Proof of residence, such as, but not limited to, title to land or a lease or a rental agreement, and, if applicable, proof of matriculation at an educational institution, and, if applicable, proof of employment; and

(iii) Such other information as is requested by the immigration officer; and

(3) Shall be fingerprinted and photographed by the immigration officer.

(e) Annual reporting obligations. All aliens described in paragraph

(a) shall appear, within 10 days of each anniversary of the date on which they were registered under this Notice, before an immigration officer at any of the locations listed in the appendix to this Notice and answer questions under oath. All aliens described in paragraph (a) shall comply with all other provisions of 8 CFR 264.1(f)(5)-(9).

(f) Notice of Change of Address. All aliens described in paragraph (a) shall advise the Immigration and Naturalization Service, through the filing of Form AR-11, of any change of address within 10 days of such change of address. If an alien fails to notify the Immigration and Naturalization Service in writing of a change of address and the new address, as required by section 265(a) of the Act, 8 U.S.C. 1305(a), the alien may be subject to prosecution under section 266(b) of the Act, 8 U.S.C. 1306(b), and may be deportable as provided in section 237(a)(3)(A) of the Act, 8 U.S.C. 1227(a)(3)(A). If it becomes necessary to place the alien in removal proceedings, the Immigration and Naturalization Service may use the most recent address provided by the alien for service of the Notice to Appear.

(g) Inapplicability. The requirements of this Notice do not apply to any alien who:

(1) Is presently in a nonimmigrant classification under section 101(a)(15)(A) or 101(a)(15)(G) of the Act, 8 U.S.C. 1101(a)(15)(A) or 8 U.S.C. 1101(a)(15)(G);

(2) Is lawfully admitted to the United States for permanent residence; or

(3) Has an application for asylum pending on December 16, 2002, or has been granted asylum, under section 208 of the Act, 8 U.S.C. 1158.

Dated: December 12, 2002.
John Ashcroft,
Attorney General.

Appendix: Immigration and Naturalization Service Offices for Registration of Certain Nonimmigrants Pursuant to Notice of December 16, 2002

ALASKA—Anchorage, 620 East 10th Avenue, Anchorage, Alaska 99501

ARIZONA—Phoenix, 2035 North Central Avenue, Phoenix, Arizona 85004

ARIZONA—Tucson, 6431 South Country Club Road, Tucson, Arizona 85706-5907

ARKANSAS—Fort Smith, 4991 Old Greenwood Road, Fort Smith, Arkansas 72903

CALIFORNIA—Fresno, 865 Fulton Mall, Fresno, California 93721

CALIFORNIA—Los Angeles, 300 North Los Angeles Street, Room 2024, Los Angeles, California 90012

CALIFORNIA—Sacramento, 650 Capitol Mall, Sacramento, CA 95814

CALIFORNIA—San Bernardino, 655 West Rialto Avenue, San Bernardino, California 92410

CALIFORNIA—San Diego, 880 Front Street, Suite 1209, San Diego, California 92101

CALIFORNIA—San Francisco, 444 Washington Street, San Francisco, California 94111

CALIFORNIA—San Jose, 1887 Monterey Road, San Jose, California 95112

CALIFORNIA—Santa Ana, 34 Civic Center Plaza, Santa Ana, California 92701

COLORADO—Denver, 4730 Paris Street, Denver, CO 80239

CONNECTICUT—Hartford, 450 Main Street, 4th Floor, Hartford, Connecticut 06103

FLORIDA—Jacksonville, 4121 Southpoint Boulevard, Jacksonville, Florida 32216

FLORIDA—Miami, 7880 Biscayne Boulevard, Miami, Florida 33138

FLORIDA—Orlando, 9403 Tradeport Drive Orlando, Florida 32827

FLORIDA—Tampa, 5524 West Cypress Street, Tampa, Florida 33607-1708

FLORIDA—West Palm Beach, 326 Fern Street, Riviera Beach, Florida 33401

GEORGIA—Atlanta, 77 Forsyth Street, SW., Atlanta, Georgia 30303

GUAM—Agana, Sirena Plaza, Suite 100, 108 Hernan Cortez Avenue, Hagatna, Guam 96910

HAWAII—Honolulu, 595 Ala Moana Boulevard, Honolulu, Hawaii 96813

IDAHO—Boise, 1185 South Vinnell Way Boise, Idaho 83709

ILLINOIS—Chicago, 230 South Dearborn, 2nd Floor Chicago, Illinois 60604

INDIANA—Indianapolis, 950 N. Meridian Street, Room 400, Indianapolis, Indiana 46204

IOWA—Des Moines, 210 Walnut Street, Room 369, Des Moines, Iowa 50309

KANSAS—Wichita, 271 West 3rd Street North, Suite 1050, Wichita, Kansas 67202-1212

KENTUCKY—Louisville, 601 West Broadway, Room 390, Louisville, Kentucky 40202

LOUISIANA—New Orleans, 701 Loyola Avenue, New Orleans, Louisiana 70113

MAINE—Portland, 176 Gannet Drive, South Portland, Maine 04106

MARYLAND—Baltimore, 31 Hopkins Place, Baltimore, Maryland 21201

MASSACHUSETTS—Boston, Government Center, JFK Federal Building, Boston, Massachusetts 02203

MICHIGAN—Detroit 333, Mount Elliot Street, Detroit, Michigan 48207-4381

MINNESOTA—Minneapolis, 2901 Metro Drive, Suite 100, Bloomington, Minnesota 55425

MISSOURI—Kansas City, 9747 Northwest Conant Avenue, Kansas City, Missouri 64153

MISSOURI—St. Louis, 1222 Spruce Street, St. Louis, Missouri 63103

MONTANA—Helena, 2800 Skyway Drive, Helena, Montana 59601

NEBRASKA—Omaha, 3736 South 132nd Street, Omaha, Nebraska 68144

NEVADA—Las Vegas, 3373 Pepper Lane, Las Vegas, NV 89120-2739

NEVADA—Reno, 1352 Corporate Boulevard, Reno, Nevada 85902

NEW HAMPSHIRE—Manchester, 803 Canal Street, Manchester, New Hampshire 03101

NEW JERSEY—Cherry Hill, 1886 Greentree Road, Cherry Hill, New Jersey 08003

NEW JERSEY—Newark, 970 Broad Street, Newark, New Jersey 07102

NEW MEXICO—Albuquerque, 1720 Randolph Road SE, Albuquerque, New Mexico 87106

NEW YORK—Albany, 1086 Troy-Schenectady Road, Latham, New York 12110

NEW YORK—Buffalo, 130 Delaware Avenue, Buffalo, New York 14202

NEW YORK—New York City, 26 Federal Plaza, New York, New York 10278

NORTH CAROLINA—Charlotte, 210 E. Woodlawn Road, Building 6, Suite 138, Charlotte, North Carolina 28217

OHIO—Cincinnati, 550 Main Street, Room 4001, Cincinnati, Ohio 45202

OHIO—Cleveland, 1240 East Ninth Street, Cleveland, Ohio 44199

OHIO—Columbus, 50 West Broad Street, Suite 304D, Columbus, Ohio 43215

OKLAHOMA—Oklahoma City, 4149 Highline Boulevard, Suite 300, Oklahoma City, Oklahoma 73108

OREGON—Portland, 511 Northwest Broadway, Portland, Oregon 97209

PENNSYLVANIA—Philadelphia, 1600 Callowhill Street, Philadelphia, Pennsylvania 19130

PENNSYLVANIA—Pittsburgh, 1000 Liberty Avenue, Room 214, Pittsburgh, Pennsylvania 15222

PUERTO RICO—San Juan, 7 Tabonuco Street, Guaynabo, Puerto Rico 00968

RHODE ISLAND—Providence, 200 Dyer Street, Providence, Rhode Island 02903

ST. CROIX—Christiansted, Sunny Isle Shopping Center, Christiansted, St. Croix, U.S. Virgin Islands 00820

ST. THOMAS—Charlotte Amalie, Nisky Center, Suite 1A, First Floor South, Charlotte Amalie, St. Thomas, U.S. Virgin Islands 00802

SOUTH CAROLINA—Charleston, 170 Meeting Street, Fifth Floor, Charleston, South Carolina 29401

SOUTH CAROLINA—Greer, 142-D West Philips Road, Greer, South Carolina 29650

TENNESSEE—Memphis, 1314 Sycamore View Road, Suite 100, Memphis, Tennessee 38134

TEXAS—Dallas, 8101 North Stemmons Freeway, Dallas, Texas 75247

TEXAS—El Paso, 1545 Hawkins Boulevard, El Paso, Texas 79925

TEXAS—Harlingen, 2102 Teege Avenue, Harlingen, Texas 78550-4667

TEXAS—Houston, 126 Northpoint Drive, Houston, Texas 77060

TEXAS—San Antonio, 8904 Fourwinds Drive, San Antonio, Texas 78239

UTAH—Salt Lake City, 5272 South College Drive, #100, Murray, Utah 84123

VERMONT—St. Albans, 64 Gricebrook Road, St. Albans, Vermont 05478

VIRGINIA—Norfolk, 5280 Henneman Drive, Norfolk, Virginia 23513

WASHINGTON, D.C., 4420 North Fairfax Drive, Arlington, Virginia 22203

WASHINGTON—Seattle, 815 Airport Way, South, Seattle, Washington 98134

WASHINGTON—Spokane, 920 W. Riverside Room 691, Spokane, Washington 99201

WASHINGTON—Yakima, 417 E. Chestnut, Yakima, Washington 98901

WEST VIRGINIA—Charleston, 210 Kanawha Boulevard West, Charleston, West Virginia 25302

WISCONSIN—Milwaukee, 310 East Knapp Street, Milwaukee, Wisconsin 53202

For further information relating to this notice and information about local office hours and locations, the public may call the National Customer, Service Center at 1-800-375-5283 or (TTY) 1-800-767-1833, or visit the INS, Web site at http://www.ins.gov/.

[FR Doc. 02-31717 Filed 12-13-02; 8:45 am],

BILLING CODE 4410-10-P